DEPARTMENT OF ENERGY

Federal Energy Regulatory Commission

[Project No. 12604-002]

Greybull Valley Irrigation District; Notice of Preliminary Permit Application Accepted for Filing and Soliciting Comments, Motions To Intervene, and Competing Applications

On February 1, 2012, the Greybull Valley Irrigation District filed an application for a preliminary permit, pursuant to section 4(f) of the Federal Power Act (FPA), proposing to study the feasibility of the Lower Sunshine Reservoir Hydroelectric Power Project (Lower Sunshine Project or project) to be located on Sunshine Creek, near Meeteetse, Park County, Wyoming. The sole purpose of a preliminary permit, if issued, is to grant the permit holder priority to file a license application during the permit term. A preliminary permit does not authorize the permit holder to perform any land-disturbing activities or otherwise enter upon lands or waters owned by others without the owners' express permission.

The proposed project would utilize the existing Lower Sunshine dam and reservoir having a total storage capacity of 56,378 acre-feet at elevation 6,277 feet mean sea level, and would consist of the following new features: (1) A 50-foot-long, 6-foot-diameter penstock extending from the existing conduit to the powerhouse; (2) a powerhouse containing two turbine/generator units totaling 5 megawatts or less in capacity at 170 feet of net head; (3) a tailrace discharging flows to Sunshine Creek; (4) a 1,700-foot-long, 25-kilovolt (kV) transmission line extending from the project to a 69-kV transmission line owned by the Western Area Power Administration and Rocky Mountain Power (the point of interconnection); and (5) appurtenant facilities. The estimated annual generation of the Lower Sunshine Project would be 12.4 gigawatt-hours.

Applicant Contacts: Mr. Lee Allen, 989 Highway 20 West, P.O. Box 44, Emblem, Wyoming 82422; phone: (307) 762-3555. Mr. William Schlenker, 989 Highway 20 West, P.O. Box 44, Emblem, Wyoming 82422; phone: (307) 762-3555.

FERC Contact: Kim Nguyen; phone: (202) 502-6105.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-12604-002) in the docket number field to access the document. For assistance, contact FERC Online Support.

Dated: May 4, 2012.
Kimberly D. Bose,
Secretary.

[FR Doc. 2012-11353 Filed 5-10-12; 8:45 am]

BILLING CODE 6717-01-P